DEPARTMENT OF HOMELAND SECURITY

Coast Guard

[USCG-2005-22704]

Merchant Marine Personnel Advisory Committee

AGENCY: Coast Guard, DHS.

ACTION: Notice of meeting.

SUMMARY: A working group of the Merchant Marine Personnel Advisory Committee (MERPAC) will meet to discuss Task Statement #52, “Recommendations on the Coast Guard's Draft Proposals on Issues That Will Be Affected by the Revisions to the 1997 Interim Rule Implementing the 1978 STCW Convention, as amended.” MERPAC advises the Secretary of Homeland Security on matters relating to the training, qualifications, licensing, certification, and fitness of seamen serving in the U.S. merchant marine. This meeting will be open to the public.

DATES: The MERPAC working group will meet on Thursday, November 17, 2005, from 8:30 a.m. to 4:30 p.m. (local), and Friday, November 18, 2005 from 8:30 a.m. to 4:30 p.m. These meetings may adjourn early if all business is finished. Requests to make oral presentations should reach the Coast Guard on or before November 3, 2005. Written material and requests to have a copy of your material distributed to each member of the working group should reach the Coast Guard on or before November 3, 2005.

ADDRESSES: The working group of MERPAC will meet in the Crabtree Room, which is situated on the second floor of the library at the United States Merchant Marine Academy. The Academy is located at the end of Steamboat Road in Kings Point, New York 11024. Send written material and requests to make oral presentations to Mr. Mark Gould, Commandant (G-MSO-1), U.S. Coast Guard Headquarters, 2100 Second Street SW., Washington, DC 20593-0001. This notice and related documents are available on the Internet at http://dms.dot.gov under Docket Number USCG-2005-22704.

FOR FURTHER INFORMATION CONTACT: For questions on this notice, contact Mr. Mark C. Gould, Assistant to the Executive Director, telephone 202-267-6890, fax 202-267-4570, or e-mail mgould@comdt.uscg.mil.

SUPPLEMENTARY INFORMATION: Notice of this meeting is given under the Federal Advisory Committee Act, 5 U.S.C. App. 2. (Pub. L. 92-463, 86 Stat. 770, as amended).

Agenda of November 17-18, 2005 Meetings

The working group will meet to discuss Task Statement #52, “Recommendations on the Coast Guard's Draft Proposals on Issues That Will Be Affected by the Revisions to the 1997 Interim Rule Implementing the 1978 STCW Convention.” The U.S. Coast Guard intends to finalize the provisions of the 1997 Interim Rule Implementing the 1978 STCW Convention, as amended. The working group will consider issues relating to deck and engine license progression/structures, tonnage equivalents, credit for military service, and management level training. Recommendations will be prepared for the full MERPAC committee to consider at its next meeting.

Procedural

This meeting is open to the public. Please note that the meeting may adjourn early if all business is finished. At the Chair's discretion, members of the public may make oral presentations during the meeting. If you would like to make an oral presentation at the meeting, please notify Mr. Gould no later than November 3, 2005. Written material for distribution at the meeting should reach the Coast Guard no later than November 3, 2005. If you would like a copy of your material distributed to each member of the committee or working group in advance of the meeting, please submit 25 copies to Mr. Gould no later than November 3, 2005.

Information on Services for Individuals With Disabilities

For information on facilities or services for individuals with disabilities or to request special assistance at the meeting, contact Mr. Gould at the numbers listed in FOR FURTHER INFORMATION CONTACT as soon as possible.

Dated: October 13, 2005.
Howard L. Hime,
Acting Director of Standards, Marine Safety, Security and Environmental Protection.

[FR Doc. 05-21142 Filed 10-21-05; 10:32 am]

BILLING CODE 4910-15-P